DEPARTMENT OF HOMELAND SECURITY

Coast Guard

[CGD09-05-006]

Final Implementation of Sectors Detroit, Sector Sault Ste. Marie, Sector Buffalo, and Sector Lake Michigan

AGENCY: Coast Guard, DHS.

ACTION: Notice of organizational change.

SUMMARY: The Coast Guard previously announced the stand-up of Sectors Detroit, Sector Sault Ste. Marie, Sector Buffalo, and Sector Lake Michigan under this docket. This notice informs the public that the process is nearing completion for all Sectors in the Ninth Coast Guard District. All boundaries of areas of responsibility will shift on July 29, 2005, the date of stand-up of the last Sector, Sector Lake Michigan. The Commander of each Sector has the authority, responsibility and missions of its corresponding Group, Captain of the Port (COTP) and Marine Safety Offices. The Coast Guard has established a continuity of operations whereby all previous practices and procedures will remain in effect until superseded by an authorized Coast Guard official or document.

DATES: The effective dates of Sector stand-up are: Sector Detroit on March 31, 2005; Sector Sault Ste. Marie on June 27, 2005; Sector Buffalo on July 22, 2005; and Sector Lake Michigan on July 29, 2005.

ADDRESSES: Documents indicated in this preamble as being available in the docket are part of docket CGD09-05-006 and are available for inspection or copying at Commander, Ninth Coast Guard District (rpl), 1240 E. Ninth Street, Cleveland, Ohio 44199-2060 between 8 a.m. and 4:30 p.m., Monday through Friday, except Federal holidays.

FOR FURTHER INFORMATION CONTACT: Lieutenant Junior Grade Christopher Blomshield, Ninth District Planning Office at (216) 902-6101.

SUPPLEMENTARY INFORMATION:

Discussion of Notice

This notice confirms the stand-up of all Sectors in the Ninth Coast Guard District and gives a detailed description of their respective boundaries. Boundaries of areas of responsibility for all Sectors will change simultaneously on July 29, 2005.

Sector Detroit is located at 110 Mt. Elliot Ave., Detroit, Michigan 48207-4380. Sector Detroit stood-up on March 31, 2005 and is composed of a Response Department, Prevention Department, and Logistics Department. As of March 31, 2005, Group/Marine Safety Office Detroit no longer exists as an organizational entity. On July 29, 2005, Marine Safety Office Toledo will be renamed Marine Safety Unit Toledo.

The Sector Detroit Commander is vested with all the rights, responsibilities, duties, and authority of a Group Commander and Commanding Officer Marine Safety Office, as provided for in Coast Guard regulations, and is the successor in command to the Commanding Officer of Group/Marine Safety Office Detroit. As of July 29, 2005, the Sector Detroit Commander is designated: (a) Captain of the Port (COTP) for the Detroit, Toledo, and a portion of the Sault Ste. Marie COTP zones; (b) Federal Maritime Security Coordinator (FMSC) for the Detroit, Toledo, and a portion of the Sault Ste. Marie COTP zones; (c) Federal On Scene Coordinator (FOSC) for the Detroit, Toledo, and a portion of the Sault Ste. Marie COTP zones, consistent with the National Contingency Plan; (d) Officer in Charge of Marine Inspection (OCMI) for the Detroit, Toledo, and a portion of the Sault Ste. Marie Marine Inspection Zones and, (e) Search and Rescue Mission Coordinator (SMC). The Deputy Sector Commander is designated alternate COTP, FMSC, FOSC, SMC and Acting OCMI. A continuity of operations order has been issued ensuring that all previous Group/Marine Safety Office Detroit, Marine Safety Office Toledo, and Group/Marine Safety Office Sault Ste. Marie practices and procedures will remain in effect until superseded by Commander, Sector Detroit. This continuity of operations order addresses existing COTP regulations, orders, directives and policies.

The following information is a list of updated command titles, addresses and points of contact to facilitate requests from the public and assist with entry into security or safety zones:

Name: Sector Detroit.

Address: Commander, U.S. Coast Guard Sector Detroit, 110 Mt. Elliot Ave., Detroit, Michigan 48207-4380.

Contact: General Number, (313) 568-9580, Sector Commander: Captain Patrick Brennan; Deputy Sector Commander: Commander Christopher Roberge.

Chief, Prevention Department: (313) 568-9490.

Chief, Response Department: (313) 568-9521.

Chief, Logistics Department: (313) 568-9551.

Sector Detroit's boundaries are: “All navigable waters of the United States and contiguous land areas within the following boundaries: From the Ohio-Indiana boundary at latitude 41 degrees N.; then due east to longitude 82 degrees 25 minutes W.; then due north to the international boundary in Lake Erie; then northerly along the international boundary to latitude 45 degrees 35 minutes N.; then southwesterly to the shore of western Lake Huron at latitude 45 degrees 17.5 minutes N.; then southwesterly to latitude 44 degrees 43 minutes N., longitude 84 degrees 30 minutes W.; then due south to the Michigan-Ohio boundary; then westerly along the Michigan-Ohio boundary to the Ohio-Indiana boundary; then southerly along the Ohio-Indiana boundary to the starting point.”

Sector Sault Ste. Marie is located at 337 Water Street, Sault Ste. Marie, Michigan 49783-9501. Sector Sault Ste. Marie is composed of a Response Department, Prevention Department, and Logistics Department. Effective June 27, 2005, Group/Marine Safety Office Sault Ste. Marie no longer exists as an organizational entity. On July 29, 2005 Marine Safety Office Duluth will be renamed Marine Safety Unit Duluth and the southern portions of the Sault Ste. Marie COTP zone transferred to Sector Detroit and Sector Lake Michigan.

The Sector Sault Ste. Marie Commander is vested with all the rights, responsibilities, duties, and authority of a Group Commander and Commanding Officer Marine Safety Office, as provided for in Coast Guard regulations, and is the successor in command to the Commanding Officer of Group/Marine Safety Office Sault Ste. Marie. As of July 29, 2005, the Sector Sault Ste. Marie Commander is designated: (a) Captain of the Port (COTP) for the remainder of the Sault Ste. Marie and the Duluth COTP zones; (b) Federal Maritime Security Coordinator (FMSC) for the remainder of the Sault St. Marie and the Duluth COTP zones; (c) Federal On Scene Coordinator (FOSC) for the remainder of the Sault St. Marie and the Duluth COTP zones, consistent with the National Contingency Plan; (d) Officer in Charge of Marine Inspection (OCMI) for the remainder of the Sault St. Marie and the Duluth Marine Inspection Zones and, (e) Search and Rescue Mission Coordinator (SMC). The Deputy Sector Commander is designated alternate COTP, FMSC, FOSC, SMC and Acting OCMI. Marine Safety Unit Duluth retains COTP authority for the former Duluth COTP zone as a sub-zone of COTP Sault Ste. Marie. A continuity of operations order has been issued ensuring that all previous Group/Marine Safety Office Sault Ste. Marie and Marine Safety Office Duluth practices and procedures will remain in effect until superseded by Commander, Sector Sault Ste. Marie. This continuity of operations order addresses existing COTP regulations, orders, directives and policies.

The following information is a list of updated command titles, addresses and points of contact to facilitate requests from the public and assist with entry into security or safety zones:

Name: Sector Sault Ste. Marie.

Address: Commander, U.S. Coast Guard Sector Sault Ste. Marie, 337 Water Street, Sault Ste. Marie, Michigan 49783-9501.

Contact: General Number, (906) 635-3228, Sector Commander: Captain E.Q. Kahler; Deputy Sector Commander: Commander Larry Hewett.

Chief, Prevention Department: (906) 635-3220.

Chief, Response Department: (906) 635-3231.

Chief, Logistics Department: (906) 635-3265.

The boundaries of the Sault Ste Marie Captain of the Port Zone and Area of Responsibility are: “All navigable waters of the United States and contiguous land areas within the following boundaries: From of the international boundary at latitude 45 degrees 35 minutes N.; then southwesterly to the shore of western Lake Huron at latitude 45 degrees 17.5 minutes N.; then southwesterly to latitude 44 degrees 43 minutes N., longitude 84 degrees 30 minutes W.; then northwesterly to the eastern shore of Lake Michigan at latitude 45 degrees 38 minutes N.; then northwesterly to latitude 45 degrees 50 minutes N., longitude 85 degrees 43 minutes W.; then southwesterly to latitude 45 degrees 41 minutes N., longitude 86 degrees 06 minutes W.; then northwesterly to latitude 46 degrees 20 minutes N., longitude 87 degrees 22 minutes W.; then due west to longitude 88 degrees 30 minutes W.; then northeasterly to the shore of Lake Superior at longitude 87 degrees 45 minutes W.; then northerly to Manitou Island Light, located at latitude 47 degrees 25 minutes N., longitude 87 degrees 35 minutes W.; then due north to the international boundary; then southeasterly along the international boundary to the starting point.”

The boundaries of the Duluth Captain of the Port Sub-Zone and Area of Responsibility are: “All navigable waters of the United States and contiguous land areas within the following boundaries: From the intersection of the Minnesota-North Dakota boundary and the international boundary; then southerly along the Minnesota-North Dakota boundary to latitude 46 degrees 20 minutes N.; then due east to longitude 88 degrees 30 minutes W.; then northeasterly to the shore of Lake Superior at longitude 87 degrees 45 minutes W.; then northerly to Manitou Island Light, located at latitude 47 degrees 25 minutes N., longitude 87 degrees 35 minutes W.; then due north to the international boundary; then westerly along the international boundary to the starting point.”

Sector Buffalo is located at 1 Fuhrmann Blvd., Buffalo, New York 14203-3189. Sector Buffalo is composed of a Response Department, Prevention Department, and Logistics Department. Effective July 22, 2005, Group Buffalo and Marine Safety Office Buffalo will no longer exist as organizational entities. On July 29, 2005, Marine Safety Office Cleveland will be renamed Marine Safety Unit Cleveland.

The Sector Buffalo Commander is vested with all the rights, responsibilities, duties, and authority of a Group Commander and Commanding Officer Marine Safety Office, as provided for in Coast Guard regulations, and is the successor in command to the Commanding Officers of Group Buffalo and Marine Safety Office Buffalo. As of July 29, 2005, the Sector Buffalo Commander is designated: (a) Captain of the Port (COTP) for the Buffalo and Cleveland COTP zones; (b) Federal Maritime Security Coordinator (FMSC) for the Buffalo and Cleveland zones; (c) Federal On Scene Coordinator (FOSC) for the Buffalo and Cleveland COTP zones, consistent with the National Contingency Plan; (d) Officer in Charge of Marine Inspection (OCMI) for the Buffalo and Cleveland Marine Inspection Zones and, (e) Search and Rescue Mission Coordinator (SMC). The Deputy Sector Commander is designated alternate COTP, FMSC, FOSC, SMC and Acting OCMI. A continuity of operations order has been issued ensuring that all previous Group Buffalo, Marine Safety Office Buffalo, and Marine Safety Office Cleveland practices and procedures will remain in effect until superseded by Commander, Sector Buffalo. This continuity of operations order addresses existing COTP regulations, orders, directives and policies.

The following information is a list of updated command titles, addresses and points of contact to facilitate requests from the public and assist with entry into security or safety zones:

Name: Sector Buffalo.

Address: Commander, U.S. Coast Guard Sector Buffalo, 1 Fuhrmann Blvd., Buffalo, New York 14203-3189.

Contact: General Number, (716) 843-9525, Sector Commander: Captain Scott Ferguson; Deputy Sector Commander: Commander Patrick Dowden.

Chief, Prevention Department: (716) 843-9525.

Chief, Response Department: (716) 843-9520.

Chief, Logistics Department: (716) 843-9525.

The boundaries of Sector Buffalo are: “All navigable waters of the United States and contiguous land areas within the following boundaries: From latitude 41 degrees N., longitude 82 degrees 25 minutes W.; then due east to longitude 78 degrees 55 minutes W.; then due north to latitude 42 degrees N.; then due east to longitude 74 degrees 39 minutes W.; then due north to the international boundary; then southeasterly along the international boundary to longitude 82 degrees 25 minutes W.; then due south to the starting point.”

Sector Lake Michigan is located at 2420 South Lincoln Memorial Drive, Milwaukee, Wisconsin 53207-1997. Sector Lake Michigan is composed of a Response Department, Prevention Department, and Logistics Department. Effective July 29, 2005, Group Milwaukee and Marine Safety Office Milwaukee will no longer exist as organizational entities. On July 29, 2005 Marine Safety Office Chicago will be renamed Marine Safety Unit Chicago and Group Grand Haven will be renamed Sector Field Office Grand Haven.

The Sector Lake Michigan Commander is vested with all the rights, responsibilities, duties, and authority of a Group Commander and Commanding Officer Marine Safety Office, as provided for in Coast Guard regulations, and is the successor in command to the Commanding Officers of Group Milwaukee and Marine Safety Office Milwaukee. The Sector Lake Michigan Commander is designated: (a) Captain of the Port (COTP) for the Milwaukee, Chicago, and portions of the Sault Ste. Marie COTP zones; (b) Federal Maritime Security Coordinator (FMSC) for the Milwaukee, Chicago, and portions of the Sault Ste. Marie zones; (c) Federal On Scene Coordinator (FOSC) for the Milwaukee, Chicago, and portions of the Sault Ste. Marie COTP zones, consistent with the National Contingency Plan; (d) Officer in Charge of Marine Inspection (OCMI) for the Milwaukee, Chicago, and portions of the Sault Ste. Marie Marine Inspection Zones and, (e) Search and Rescue Mission Coordinator (SMC). The Deputy Sector Commander is designated alternate COTP, FMSC, FOSC, SMC and Acting OCMI. A continuity of operations order has been issued ensuring that all previous Group Milwaukee, Marine Safety Office Milwaukee, Marine Safety Office Chicago, and Group/Marine Safety Office Sault Ste. Marie practices and procedures will remain in effect until superseded by Commander, Sector Lake Michigan. This continuity of operations order addresses existing COTP regulations, orders, directives and policies.

The following information is a list of updated command titles, addresses and points of contact to facilitate requests from the public and assist with entry into security or safety zones:

Name: Sector Lake Michigan.

Address: Commander, U.S. Coast Guard Sector Lake Michigan, 2420 South Lincoln Memorial Drive, Milwaukee, Wisconsin 53207-1997.

Contact: General Number, (414) 747-7100, Sector Commander: Captain Scott LaRochelle; Deputy Sector Commander: Commander Mark Hamilton.

Chief, Prevention Department: (414) 747-7157.

Chief, Response Department: (414) 747-7145.

Chief, Logistics Department: (414) 747-7100.

The boundaries of Sector Lake Michigan are: “ All navigable waters of the United States and contiguous land areas within the following boundaries: From latitude 46 degrees 20 minutes N., 90 degrees W.; then due east to longitude 87 degrees 22 minutes W.; then southeasterly to latitude 45 degrees 41 minutes N., longitude 86 degrees 06 minutes W.; then northeasterly to latitude 45 degrees 50 minutes N., 85 degrees 43 minutes W.; then southeasterly to the shore of eastern Lake Michigan at latitude 45 degrees 38 minutes N.; then southeasterly to latitude 44 degrees 43 minutes W., longitude 84 degrees 30 minutes W.; then due south to the Michigan-Ohio boundary; then westerly along the Michigan-Ohio boundary to the Ohio-Indiana boundary; then southerly along the Ohio-Indiana boundary to latitude 41 degrees N.; then due west to longitude 90 degrees W.; then due north to the starting point.”

Dated: July 11, 2005.
T. W. Sparks,
Captain, U.S. Coast Guard, Commander, Ninth Coast Guard District, Acting.

[FR Doc. 05-14105 Filed 7-18-05; 8:45 am]

BILLING CODE 4910-15-P